NUCLEAR REGULATORY COMMISSION

[Docket No. 50-608; NRC-2013-0053]

SHINE Medical Technologies, Inc.

AGENCY: Nuclear Regulatory Commission.

ACTION: License application; correction.

SUMMARY: The U.S. Nuclear Regulatory Commission (NRC) is correcting a notice that was published in the Federal Register (FR) on December 9, 2013, regarding the docketing of the SHINE Medical Technologies, Inc. (SHINE) construction permit application. This action is necessary to provide the NRC's Agencywide Documents Access and Management System (ADAMS) accession number for the letter by which SHINE submitted the second and final part of its two-part application for a construction permit.

DATES: The correction is effective June 4, 2014.

ADDRESSES: Please refer to Docket ID NRC-2013-0053 when contacting the NRC about the availability of information for this document. You may access publicly-available information related to this document by any of the following methods:

• Federal Rulemaking Web site: Go to http://www.regulations.gov and search for Docket ID NRC-2013-0053. Address questions about NRC dockets to Carol Gallagher; telephone: 301-287-3422; email: Carol.Gallagher@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Steven Lynch, Office of Nuclear Reactor Regulation; telephone: 301-415-1524; email: Steven.Lynch@nrc.gov; U.S. Nuclear Regulatory Commission, Washington, DC 20555-0001.

SUPPLEMENTARY INFORMATION: In the FR of December 9, 2013, in FR Doc. 2013-29303, on page 73897, second column, eleventh line from the top of the page, correct “ADAMS Accession No.” to read “ADAMS Accession No. ML13172A361.”

Dated at Rockville, Maryland, this 30th day of May, 2014.
For the Nuclear Regulatory Commission.
Leslie Terry,
Acting Chief, Rules, Announcements, and Directives Branch, Division of Administrative Services, Office of Administration.

[FR Doc. 2014-12948 Filed 6-3-14; 8:45 am]

BILLING CODE 7590-01-P